DEPARTMENT OF HEALTH AND HUMAN SERVICES

Administration on Aging

Agency Information Collection Activities; Submission for OMB Review; Comment Request; 2003 National Survey of Older Americans Act Participants

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information within 30 days of the publication of this notice.

ADDRESSES: Submit written comments on the collection of information by fax 202.395.6974 or by mail to the Office of Information and Regulatory Affairs, OMB, New Executive Office Bldg., 725 17th St., NW., rm. 10235, Washington, DC 20503, Attn: Allison Herron Eydt, Desk Officer for AoA.

FOR FURTHER INFORMATION CONTACT: Cynthia.Bauer@aoa.gov.

SUPPLEMENTARY INFORMATION: In compliance with 44 U.S.C. 3507, AoA has submitted the following proposed collection of information to OMB for review and clearance.

With the 2003 National Surveys of Older Americans Act Participants, the Administration on Aging continues its initiative, started with the Performance Outcomes Measures Project (POMP), to develop and test performance outcome measures for Older Americans Act programs. Surveys to be conducted in 2003 will test consumer assessment instruments at the national and state level for nutrition, transportation, homemaker, information and assistance and caregiver services.

AoA estimates the burden of this collection of information as follows: Area Agency on Aging—Number of Respondents: 120; Number of Responses per Respondent: one; Average Burden per Response: 2 hours; Area Agency on Aging Burden: 240 hours—National Survey—Number of Respondents: 5040; Number of Responses per Respondent: one; Average Burden per Response: .5 hours; National Survey Burden: 2,520 hours—State Surveys—Number of Respondents: 5600; Number of Responses per Respondent: one; Average Burden per Response: .5 hours; State Survey Burden: 2,800 hours—Total Burden—5,560 hours.

Dated: June 3, 2003.
Josefina G. Carbonell,
Assistant Secretary for Aging.

[FR Doc. 03-15061 Filed 6-13-03; 8:45 am]

BILLING CODE 4154-01-P